ENVIRONMENTAL PROTECTION AGENCY

[AZ-118-ADEQ; FRL-7801-9]

Adequacy Status of the Maricopa County, Arizona, Submitted One-Hour Ozone Redesignation Request and Maintenance Plan for Transportation Conformity Purposes

AGENCY: Environmental Protection Agency (EPA).

ACTION: Notice of adequacy.

SUMMARY: In this notice, EPA is notifying the public that we have found that the motor vehicle emissions budgets contained in the submitted One-Hour Ozone Redesignation Request and Maintenance Plan for the Maricopa County Nonattainment Area are adequate for conformity purposes.

As a result of our finding, the Maricopa Association of Governments and the U.S. Department of Transportation must use the VOC and NOX motor vehicle emissions budgets from the submitted Ozone Redesignation Request and Maintenance Plan for future conformity determinations.

DATES: This determination is effective September 1, 2004.

FOR FURTHER INFORMATION CONTACT: The finding is available at EPA's conformity Web site: http://www.epa.gov/otaq/transp/conform/adequacy.htm (once there, click on the “What SIP submissions has EPA already found adequate or inadequate?” button).

You may also contact Wienke Tax, U.S. EPA, Region IX, Air Division AIR-2, 75 Hawthorne Street, San Francisco, CA 94105-3901; (520) 622-1622 or tax.wienke@epa.gov.

SUPPLEMENTARY INFORMATION: This notice announces our finding that the emissions budgets contained in the submitted One-Hour Ozone Redesignation Request and Maintenance Plan for the Maricopa County Nonattainment Area (March 2004) (“2004 MAG Ozone Maintenance Plan”), submitted by the State of Arizona on behalf of the Maricopa Association of Governments, are adequate for conformity purposes. EPA Region IX made this finding in a letter to the State of Arizona, Department of Environmental Quality, on August 3, 2004. We are also announcing this finding on our conformity Web site: http://www.epa.gov/otaq/transp/conform/adequate.htm (once there, click on the “What SIP submissions has EPA already found adequate or inadequate?” button).

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards. The criteria by which we determine whether a SIP's motor vehicle emissions budgets are adequate for conformity purposes are outlined in 40 CFR 93.118(e)(4). One of these criteria is that the motor vehicle emissions budgets, when considered together with all other emissions sources, are consistent with applicable requirements for a maintenance plan. We have preliminarily determined that the 2004 MAG Ozone Maintenance Plan meets the necessary emissions reductions and therefore, the motor vehicle emissions budgets can be found adequate. Please note that an adequacy review is separate from EPA's completeness review which is required by section 110(k)(1) of the Clean Air Act, and it also should not be used to prejudge EPA's ultimate action (approval or disapproval) on the submitted plan itself. Even if we find a budget adequate, the submitted plan could later be disapproved.

We have described our process for determining the adequacy of submitted SIP budgets in guidance (May 14, 1999, memo titled “Conformity Guidance on Implementation of March 2, 1999, Conformity Court Decision”). We followed this guidance in making our adequacy determination on the emissions budgets contained in the 2004 MAG Ozone Maintenance Plan.

Authority: 42 U.S.C. 7401-7671q.

Dated: August 10, 2004.
Wayne Nastri,
Regional Administrator, Region IX.

[FR Doc. 04-18771 Filed 8-16-04; 8:45 am]

BILLING CODE 6560-50-P